DEPARTMENT OF HEALTH AND HUMAN SERVICES

Solicitation of Nomination for Appointment to the Advisory Committee on Blood Safety and Availability

AGENCY: Department of Health and Human Services, Office of the Secretary.

ACTION: Notice.

Authority: 42 U.S.C. 217a, Section 222 of the Public Health Service Act, as amended. The Advisory Committee on Blood Safety and Availability is governed by the provisions of Public Law 92-463, as amended (5 U.S.C. Appendix 2) which sets forth standards for the formation and use of advisory committees.

SUMMARY: The Department of Health and Human Services (DHHS), Office of Public Health and Science, is seeking nominations of qualified candidates to be considered for appointment as a member of the Advisory Committee on Blood Safety and Availability (ACBSA).

The ACBSA provides advice to the Secretary and the Assistant Secretary for Health on blood safety policy issues which encompass broad public health and societal implications that cannot be resolved through analysis of scientific data alone.

DATES: All nominations must be received at the address below no later than 4 p.m. e.s.t. May 30, 2005.

ADDRESSES: All nominations should be mailed or delivered to Jerry Holmberg, Ph.D., Executive Secretary, Advisory Committee on Blood Safety and Availability, Office of Public Health and Science, Department of Health and Human Services, 1101 Wootton Parkway, Suite 250, Rockville, MD 20852.

FOR FURTHER INFORMATION CONTACT: Jerry Holmberg, Ph.D., Executive Secretary, Advisory Committee on Blood Safety and Availability, Office of Public Health and Science, Department of Health and Human Services, 1101 Wootton Parkway, Suite 250, Rockville, MD 20852. Telephone (301) 443-2331.

A copy of the Committee charter and a list of the current membership can be obtained by contacting Dr. Holmberg.

SUPPLEMENTARY INFORMATION: The ACBSA provides advice to the Secretary and the Assistant Secretary for Health on a broad range of policy issues regarding the collection, preparation, and distribution of blood and blood products, and regulations related to the transmission of communicable diseases. The range of policy issues that the ACBSA provides advice on includes: (1) Definition of public health parameters around safety and availability of blood supply; (2) broad public health, ethical and legal issues related to blood safety, and (3) the implications for blood safety availability of various economic factors affecting product cost and supply.

The ACBSA consists of 18 voting members. The Committee is composed of 12 members, including the Chair, and 6 representative members. The public members are selected from State and local organizations, advocacy groups, provider organizations, academic researchers, ethicists, private physicians, scientists, consumer advocates, legal organizations, and from among communities of persons who are frequent recipients of blood or blood products. The representative members are designated to serve as official representatives of the blood and blood products industry or professional organizations. The representative members shall represent the American Association of Blood Banks, one or two major distributors of blood on a rotating basis, a trade organization or manufacturer of blood test kits or equipment, a company that produces leukoreduction processes, a major hospital organization that purchases blood and blood products, and a plasma protein therapeutic association.

Nominations

The Office of Public Health and Science is seeking nominations to fill several positions on the ACBSA that are scheduled to be vacated on September 30, 2005. The positions to be vacated are from both classifications—the public members and the representative members.

To qualify for consideration as a public member, individuals should possess authoritative knowledge in blood banking, transfusion medicine, plasma therapies, bioethics, and/or related disciplines. Public members will be selected from the categories previously described.

The terms of appointment for the representative member of the following also are scheduled to end: a trade organization or manufacturer of blood test kits or equipment, a company that produces leukoreduction processes, a major hospital organization that purchases blood and blood products, and a plasma protein therapeutic association. This notice is intended to solicit nominations from the blood and blood products industry and professional organizations of qualified candidates to serve as official representatives for the specified interest groups or industry.

Individuals are invited to serve as members of the Committee for overlapping three year terms. Public members of the Committee receive a stipend for attending Committee meetings, as well as for conducting other business in the interest of the Committee.

Pursuant to advance written agreement, members who are appointed as representatives of a particular interest group or industry serve without compensation. All members are authorized to receive prescribed per diem allowances and reimbursement for expenses incurred when performing travel to conduct Committee-related business matters.

Nominations should be typewritten. The following information should be included in the package of material submitted for each individual being nominated for consideration: (1) A letter of nomination that clearly states the name and affiliation of the nominee, the basis for the nomination (i.e., specific attributes which qualify the nominee for service in this capacity), and a statement that the nominee is willing to serve as a member of the Committee; (2) the nominator's name, address, and daytime telephone number, and the home and/or work address, telephone number and e-mail address of the person being nominated; and (3) a current copy of the nominee's curriculum vitae. The names of Federal employees should not be nominated for consideration of appointment for this Committee.

The Department makes every effort to ensure that membership of DHHS Federal advisory committees is fairly balanced in terms of points of view represented and the committee's function. Every effort is made to ensure that a broad representation of geographic areas, females, ethnic and minority groups, and the disabled are given consideration for membership on DHHS Federal advisory committees. Appointment to this Committee shall be made without discrimination on the basis of age, race, ethnicity, gender, sexual orientation, disability, and cultural, religious, or socioeconomic status.

Nominations must state that the nominee is willing to serve as a member of ACBSA and appears to have no conflict of interest that would preclude membership. An ethics review is conducted for each selected candidate. Therefore, individuals selected for nomination will be required to provide detailed information concerning such matters as financial holdings, consultancies, and research grants or contracts to permit evaluation of possible sources of conflict of interest.

Dated: April 25, 2005.
Jerry A. Holmberg,
Executive Secretary, Advisory Committee on Blood Safety and Availability.

[FR Doc. 05-8773 Filed 5-2-05; 8:45 am]

BILLING CODE 4150-41-P